NUCLEAR REGULATORY COMMISSION

[NRC-2019-0246]

Information Collection: Comprehensive Decommissioning Program Annual Site List and Point of Contact

AGENCY: Nuclear Regulatory Commission.

ACTION: Notice of submission to the Office of Management and Budget (OMB); request for comment.

SUMMARY: The U.S. Nuclear Regulatory Commission (NRC) has recently submitted a proposed collection of information to the Office of Management and Budget for review. The information collection is entitled, “Comprehensive Decommissioning Program Annual Site List and Point of Contact.”

DATES: Submit comments by October 26, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2019-0246 when contacting the NRC about the availability of information for this action. You may obtain publicly-available information related to this action by any of the following methods:

• Federal Rulemaking Website: Go to https://www.regulations.gov and search for Docket ID NRC-2019-0246. A copy of the collection of information and related instructions may be obtained without charge by accessing Docket ID NRC-2019-0246 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. A copy of the collection of information and related instructions may be obtained without charge by accessing ADAMS Accession No. ML20232A663. The supporting statement is available in ADAMS under Accession No. ML20232A665.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, “Comprehensive Decommissioning Program Annual Site List and Point of Contact.” The NRC hereby informs potential respondents that an agency may not conduct or sponsor, and that a person is not required to respond to, a collection of information unless it displays a currently valid OMB control number.

The NRC published a Federal Register notice with a 60-day comment period on this information collection on June 19, 2020, 85 FR 37114.

1. The title of the information collection: Comprehensive Decommissioning Program Annual Site List and Point of Contact.

2. OMB approval number: 3150-0206.

3. Type of submission: Revision.

4. The form number if applicable: N/A.

5. How often the collection is required or requested: Annually.

6. Who will be required or asked to respond: All Agreement States who have signed Section 274(b) Agreements with the NRC.

7. The estimated number of annual responses: 39 (14 responses from Agreement States with sites of interest, 25 responses from Agreement States with no sites of interest).

8. The estimated number of annual respondents: 39 (14 responses from Agreement States with sites of interest, 25 responses from Agreement States with no sites of interest).

9. An estimate of the total number of hours needed annually to comply with the information collection requirement or request: 40.5 (28 hours from Agreement States with sites of interest, 12.5 hours from Agreement States with no sites of interest).

10. Abstract: Agreement States will be asked to provide a list of sites undergoing decommissioning, and a point of contact for information about uranium recovery and complex sites undergoing decommissioning that are regulated by the Agreement States. The information request will allow the NRC to compile, in a centralized location, a list of sites and points of contact who can provide information regarding Agreement State sites undergoing decommissioning in the United States. This does not apply to information, such as trade secrets and commercial or financial information provided by the Agreement States, that is considered privileged or confidential.

Dated: September 21, 2020.
For the Nuclear Regulatory Commission.
David C. Cullison,
NRC Clearance Officer, Office of the Chief Information Officer.

[FR Doc. 2020-21067 Filed 9-23-20; 8:45 am]

BILLING CODE 7590-01-P